NATIONAL SCIENCE FOUNDATION

National Artificial Intelligence Research Resource Task Force; Notice of Meeting

In accordance with the Federal Advisory Committee Act (Pub., L. 92-463, as amended), the National Science Foundation (NSF) announces the following meeting:

Name and Committee Code: National Artificial Intelligence Research Resource Task Force (84629).

Date and Time: April 8, 2022, 11:00 a.m. to 5:00 p.m. EDT.

PLACE: NSF, 2415 Eisenhower Avenue, Alexandria, VA 22314. Virtual meeting attendance only.

To attend the virtual meeting, please send your request for the virtual meeting link to the following email: cmessam@nsf.gov.

Type of Meeting: Open.

Contact Person: Brenda Williams, National Science Foundation, 2415 Eisenhower Avenue, Alexandria, VA 22314; Telephone: 703-292-8900; email: bwilliam@nsf.gov.

Purpose of Meeting: The Task Force shall investigate the feasibility and advisability of establishing and sustaining a National Artificial Intelligence Research Resource; and propose a roadmap detailing how such resource should be established and sustained.

Agenda: In this meeting, the Task Force members will deliberate on the Task Force's interim report to the President and Congress. The Task Force members will also discuss their work plan for the remainder of 2022 and identify the key issues to study as they develop implementation-focused recommendations for inclusion in their final report.

Dated: February 22, 2022.
Crystal Robinson,
Committee Management Officer.

[FR Doc. 2022-04101 Filed 2-25-22; 8:45 am]

BILLING CODE 7555-01-P